INTERNATIONAL TRADE COMMISSION

[Investigation No. 731-TA-1306 (Final)]

Large Residential Washers From China

Determination

On the basis of the record ¹ developed in the subject investigation, the United States International Trade Commission (“Commission”) determines, pursuant to section 735(b) of the Tariff Act of 1930 (19 U.S.C. 1673d(b)) (“the Act”), that an industry in the United States is materially injured by reason of imports of large residential washers from China, provided for in subheading 8450.20.00 of the Harmonized Tariff Schedule of the United States, that have been found by the Department of Commerce (“Commerce”) to be sold in the United States at less than fair value (“LTFV”).

¹ The record is defined in sec. 207.2(f) of the Commission's Rules of Practice and Procedure (19 CFR 207.2(f)).

Background

The Commission instituted this investigation effective December 16, 2015, following receipt of a petition filed with the Commission and Commerce by Whirlpool Corporation, Benton Harbor, Michigan. The Commission scheduled the final phase of the investigation following notification of a preliminary determination by Commerce that imports of large residential washers from China were being sold at LTFV within the meaning of section 733(b) of the Act (19 U.S.C. 1673b(b)). Notice of the scheduling of the final phase of the Commission's investigation and of a public hearing to be held in connection therewith was given by posting copies of the notice in the Office of the Secretary, U.S. International Trade Commission, Washington, DC, and by publishing the notice in the Federal Register of August 18, 2016 (81 FR 55231). The hearing was held in Washington, DC, on December 7, 2016, and all persons who requested the opportunity were permitted to appear in person or by counsel.

The Commission made this determination pursuant to section 735(b) of the Act (19 U.S.C. 1673d(b)). It completed and filed its determination in this investigation on January 30, 2017. The views of the Commission are contained in USITC Publication 4666 (January 2017), entitled Large Residential Washers from China: Investigation No. 731-TA-1306 (Final).

By order of the Commission.
Issued: January 30, 2017.
Lisa R. Barton,
Secretary to the Commission.

[FR Doc. 2017-02245 Filed 2-2-17; 8:45 am]

BILLING CODE 7020-02-P